DEPARTMENT OF LABOR

Employment and Training Administration

[TA-W-56,845]

Elringklinger Sealing Systems (USA), Inc., Livonia, Michigan; Notice of Termination of Investigation

Pursuant to Section 221 of the Trade Act of 1974, as amended, an investigation was initiated on March 29, 2005 in response to a worker petition filed by a company official on behalf of workers at Elringklinger Sealing Systems (USA), Inc., Livonia, Michigan.

The petitioner has requested that the petition be withdrawn. Consequently, the investigation has been terminated.

Signed at Washington, DC, this 18th day of April 2005.
Linda G. Poole,
Certifying Officer, Division of Trade Adjustment Assistance.

[FR Doc. E5-2118 Filed 5-2-05; 8:45 am]

BILLING CODE 4510-30-P